DEPARTMENT OF COMMERCE

International Trade Administration

[C-570-989, C-331-803, C-533-854, C-560-825, C-557-814, C-549-828, and C-552-815]

Certain Frozen Warmwater Shrimp From the People's Republic of China, Ecuador, India, Indonesia, Malaysia, Thailand, and the Socialist Republic of Vietnam: Postponement of Preliminary Determinations in the Countervailing Duty Investigations

AGENCY: Import Administration, International Trade Administration, Department of Commerce.

DATES: Effective Date: February 27, 2013.

FOR FURTHER INFORMATION CONTACT: Eric Greynolds or Christopher Hargett, AD/CVD Operations, Office 8, Import Administration, U.S. Department of Commerce, Room C-100, 14th Street and Constitution Avenue NW., Washington, DC 20230; telephone: 202-482-6071 and 202-482-4161, respectively.

SUPPLEMENTARY INFORMATION:

Background

On January 17, 2013, the Department of Commerce (the Department) initiated countervailing duty investigations of certain frozen warmwater shrimp from the People's Republic of China, Ecuador, India, Indonesia, Malaysia, Thailand, and the Socialist Republic of Vietnam.¹ Currently, the preliminary determinations are due no later than March 23, 2013. In the Initiation Notice, the Department incorrectly listed the case number for Certain Frozen Warmwater Shrimp From the People's Republic of China as C-570-988; however, the case number should read C-570-989.

¹ See Certain Frozen Warmwater Shrimp From the People's Republic of China,Ecuador, India, Indonesia, Malaysia, Thailand, and the Socialist Republic of Vietnam: Initiation of Countervailing Duty Investigations, 78 FR 5416 (January 25, 2013) (Initiation Notice).

Postponement of Due Date for Preliminary Determinations

Section 703(b)(1) of the Tariff Act of 1930, as amended (the Act), requires the Department to issue the preliminary determination in a countervailing duty investigation within 65 days after the date on which the Department initiated the investigation. However, if the petitioner makes a timely request for an extension, section 703(c)(1)(A) of the Act allows the Department to postpone making the preliminary determination until no later than 130 days after the date on which the administering authority initiated the investigation.

On February 8, 2013, the Coalition of Gulf Shrimp Industries, the petitioner in these investigations, requested that the deadline for the preliminary determination in each of these cases be extended to 130 days from the date of initiation in accordance with 19 CFR § 351.205(b)(2). Therefore, in accordance with section 703(c)(1)(A) of the Act, we are fully extending the due date for the preliminary determinations to no later than 130 days after the day on which the investigations were initiated. However, as that date falls on a federal holiday (i.e., May 27, 2013), the deadline for completion of the preliminary determinations is now May 28, 2013, the next business day.

This notice is issued and published pursuant to section 703(c)(2) of the Act.

Dated: February 21, 2013.
Paul Piquado,
Assistant Secretary for Import Administration.

[FR Doc. 2013-04577 Filed 2-26-13; 8:45 am]

BILLING CODE 3510-DS-P